DEPARTMENT OF LABOR

Employment and Training Administration

[TA-W-83,312]

Eaton Corporation, Cooper Power Systems, Power Delivery Division, Including On-Site Leased Workers From Adecco Employment, Olean, New York; Amended Certification Regarding Eligibility To Apply for Worker Adjustment Assistance

In accordance with Section 223 of the Trade Act of 1974, as amended (“Act”), 19 U.S.C. 2273, the Department of Labor issued a Certification of Eligibility to Apply for Worker Adjustment Assistance on January 27, 2014, applicable to workers of Eaton Corporation, Cooper Power Systems, Power Delivery Division, Olean, New York. The workers were engaged in activities related to the production of components and protective equipment consisting of surge arresters. The notice was published in the Federal Register on February 24, 2014 (79 FR 10187).

At the request of the State of New York, the Department reviewed the certification for workers of the subject firm. Information from the subject firm shows that workers leased from Adecco Employment were employed on-site at Eaton Corporation, Cooper Power Systems, Power Delivery Division, Olean, New York. The Department has determined that these workers were sufficiently under the control of Eaton Corporation, Cooper Power Systems, Power Delivery Division, Olean, New York to be considered leased workers.

The intent of the Department's certification is to include all workers of the subject firm who were adversely affected by a shift in production abroad of components and protective equipment consisting of surge arresters.

Based on these findings, the Department is amending this certification to include workers leased from Adecco Employment working on-site at the Olean, New York location of the subject firm.

The amended notice applicable to TA-W-83,312 is hereby issued as follows:

All workers from Eaton Corporation, Cooper Power Systems, Power Delivery Division, including on-site leased workers from Adecco Employment, Olean, New York, who became totally or partially separated from employment on or after December 18, 2012, through January 27, 2016, and all workers in the group threatened with total or partial separation from employment on date of certification through two years from the date of certification, are eligible to apply for adjustment assistance under Chapter 2 of Title II of the Trade Act of 1074, as amended.

Signed at Washington, DC, this 17th day of April 2015.
Michael W. Jaffe,
Certifying Officer, Office of Trade Adjustment Assistance.

[FR Doc. 2015-12051 Filed 5-18-15; 8:45 am]

BILLING CODE 4510-FN-P